DEPARTMENT OF TRANSPORTATION

Research and Special Programs Administration

Office of Hazardous Materials Safety; Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before September 14, 2000.

ADDRESS COMMENTS TO: Records Center, Research and Special Programs, Administration, U.S. Department of Transportation, Washington, DC 20590. Comments should refer to the application number and be submitted in triplicate. If confirmation of receipt of comments is desired, include a self-addressed stamped postcard showing the exemption number.

FOR FURTHER INFORMATION: Copies of the applications are available for inspection in the Records Center, Nassif Building, 400 7th Street SW, Washington, DC or at http://dms.dot.gov.

This notice of receipt of applications for modification of exemptions is published in accordance with part 107 of the Federal hazardous materials transportation law (49 U.S.C. 5117(b); 49 CFR 1.53(b)).

Issued in Washington, DC, on August 17, 2000.
J. Suzanne Hedgepeth,
Director, Office of Hazardous Materials Exemptions and Approvals.

Application No. | Docket No. | Applicant | Modification of exemption
4661-M |  | Chemical Foote Corporation, Kings Mountain, NC (See Footnote 1) | 4661
7060-M |  | Federal Express; Memphis, TN (See Footnote 2) | 7060
8757-M |  | YZ Systems, Inc.; Conrole, TX (See Footnote 3) | 8757
9347-M |  | PGI International; Houston, TX (See Footnote 4) | 9347
11924-M | RSPA-1997-2744 | UF Strainrite; Lewiston, ME (See Footnote 5) | 11924
12399-M | RSPA-2000-6769 | BOC Gasea; Murray Hill, NJ (See Footnote 6) | 12399
12494-M | RSPA-2000-7597 | American Reclamation Group, LLC; Anchorage, AK (See Footnote 7) | 12494
12509-M | RSPA-2000-7789 | Department of Defense (MTMC); Alexandria, VA (See Footnote 8) | 12509
Footnotes:
¹ To modify the exemption to allow for alternative retest procedures for 4BA240 and 4BW240 cylinders; to allow for the transportation of Division 4.3 materials.
² To modify the exemption to waive the requirements to carry a copy of the exemption aboard each aircraft when transporting Class 7 materials.
³ To modify the exemption to allow for the transportation of additional division 2.3 and class 3 materials in non-DOT specification stainless steel cylinders; editorial corrections to paragraph 6 of the exemption.
⁴ To modify the exemption to change wording in the exemption to clarify the requirements for hydrostatic/pressure testing of the non-DOT specification stainless stell cylinders.
⁵ To modify the exemption to authorize a UN 11HH2 intermediate bulk container as an outer packaging for lab pack applications transporting various classes of hazardous wastes.
⁶ To modify the exemption to amend the equipment performance and test procedure language authorizing the use of certain DOT Specification 3AL cylinders for the transportation of compressed gases.
⁷ To reissue the exemption originally issued on an emergency basis for the transportation of certain Division 5.1 materials by cargo aircraft only when aircraft is the only means of reaching destination.
⁸ To reissue the exemption originally issued on an emergency basis authorizing certain Division 4.2 materials to be stowed as palletized cargo in an under-deck forecastle location.

[FR Doc. 00-22079 Filed 8-29-00; 8:45 am]

BILLING CODE 4910-60-M